DEPARTMENT OF TRANSPORTATION

Federal Aviation Administration

Notice of Availability, Notice of Public Comment Period, and Request for Comment on the Draft Environmental Assessment for Sierra Space Dream Chaser Reentry Operations at the Shuttle Landing Facility, Brevard County, Florida and Contingency Reentry Site at Vandenberg Space Force Base, Santa Barbara County, California

AGENCY: Federal Aviation Administration (FAA), Department of Transportation (DOT).

ACTION: Notice of availability, notice of public comment period, and request for comment.

SUMMARY: In accordance with the National Environmental Policy Act of 1969, as amended (NEPA), Council on Environmental Quality NEPA-implementing regulations, and FAA Order 1050.1F, Environmental Impacts: Policies and Procedures, the FAA is announcing the availability of and requesting comment on the draft Environmental Assessment for Sierra Space Dream Chaser Reentry Operations at the Shuttle Landing Facility, Brevard County, Florida and Contingency Reentry Site at Vandenberg Space Force Base, Santa Barbara County, California (draft EA).

DATES: Comments must be received on or before August 9, 2024.

ADDRESSES: Comments should be mailed to Ms. Chelsea Clarkson, Sierra Space at SLF and VSFB, c/o ICF, 1902 Reston Metro Plaza, Reston, VA 20190. Comments may also be submitted by email to SierraSpaceSLF@icf.com.

FOR FURTHER INFORMATION CONTACT: Ms. Chelsea Clarkson, Environmental Protection Specialist, Federal Aviation Administration, 800 Independence Avenue SW, Suite 325, Washington, DC 20591; email SierraSpaceSLF@icf.com.

SUPPLEMENTARY INFORMATION: The FAA is the lead agency. U.S. Coast Guard, National Aeronautics and Space Administration, U.S. Fish and Wildlife Service, National Marine Fisheries Service, and National Park Service are cooperating agencies for the draft EA due to their special expertise and jurisdictions. The FAA is evaluating Sierra Space Corporation's (Sierra Space's) proposal to conduct Dream Chaser reentry operations at the Shuttle Landing Facility (SLF) in Brevard County, Florida or the Vandenberg Space Force Base (VSFB) in Santa Barbara County, California, which would require the FAA to issue a license. Issuing a license is considered a federal action subject to environmental review under NEPA. Under the Proposed Action, the FAA would issue a license to Sierra Space, which would authorize Sierra Space to conduct reentry operations of its Dream Chaser vehicle at the SLF or VSFB.

Alternatives under consideration include the Proposed Action and the No Action Alternative. Under the No Action Alternative, the FAA would not issue a license to Sierra Space for reentry operations at the SLF or VSFB. If Sierra Space does not obtain a license for reentry operations at the SLF or VSFB, they would be unable to conduct reentry operations of their Dream Chaser vehicle.

The draft EA evaluates the potential environmental consequences from the Proposed Action and No Action Alternative on air quality; biological resources; climate; coastal resources; Department of Transportation Act section 4(f); farmlands; hazardous materials, solid waste, and pollution prevention; historical, architectural, archeological, and cultural resources; land use; natural resources and energy supply; noise and noise-compatible land use; socioeconomics, environmental justice, and children's environmental health and safety risks; visual effects (including light emissions); and water resources.

The FAA has posted the draft EA on the FAA Office of Commercial Space Transportation website: https://www.faa.gov/space/stakeholder_engagement/Sierra_at_SLF_VSFB.

The FAA encourages all interested parties to provide comments concerning the scope and content of the draft EA. Before including your address, phone number, email address, or other personal identifying information in your comment, be advised that your entire comment—including your personal identifying information—may be made publicly available at any time. While you can ask the FAA in your comment to withhold from public review your personal identifying information, the FAA cannot guarantee that we will be able to do so.

Issued in Washington, DC on: July 8, 2024.
Stacey M. Zee,
Manager, Operations Support Branch.

[FR Doc. 2024-15292 Filed 7-11-24; 8:45 am]

BILLING CODE 4910-13-P